DEPARTMENT OF TRANSPORTATION

Federal Motor Carrier Safety Administration

[Docket No FMCSA-2013-0392]

Proposed Enhancements to the Motor Carrier Safety Measurement System (SMS) Public Web Site

AGENCY: Federal Motor Carrier Safety Administration (FMCSA), DOT.

ACTION: Notice; request for public comment.

SUMMARY: FMCSA provides notice and seeks comments on proposed enhancements to the display of information on the Agency's Safety Measurement System (SMS) public Web site. FMCSA first announced the implementation of the SMS in April 2010 and announced further improvements to the SMS in March 2012 and August 2012. Consistent with its prior announcements, the Agency proposes changes to the design of the SMS public Web site that are the direct result of feedback from stakeholders regarding the information displayed. However, the Agency is not proposing changes to the SMS methodology at this time.

On November 4, 2013, FMCSA began a preview of the proposed Web site enhancements at https://csa.fmcsa.dot.gov/SMSPreview/. Motor carriers are able to log in with their Portal account to view their own data in the redesigned format. The general public will be also able to access simulated motor carrier data to view the improved Web site design. During the preview period, FMCSA will hold several webinars to provide detailed information about the proposed SMS display changes.

DATES: Comments must be received on or before January 6, 2014. Educational webinars:

1. Monday, November 18, 2013, 12:00 to 1:30 p.m. eastern time.

2. Thursday, November 21, 2013, 1:30 to 3:00 p.m. eastern time.

3. Friday, November 22, 2013, 11:30 a.m. to 1:00 p.m. eastern time.

ADDRESSES: You may submit comments identified by Federal Docket Management System Number FMCSA-2013-0392 by any of the following methods:

Federal eRulemaking Portal: http://www.regulations.gov. Follow the online instructions for submitting comments.

Fax: 1-202-493-2251.

Mail: Docket Management Facility, (M-30), U.S. Department of Transportation (DOT), 1200 New Jersey Avenue SE., West Building, Ground Floor, Room 12-140, Washington, DC 20590-0001.

Hand Delivery: Same as mail address above, between 9 a.m. and 5 p.m., e.t, Monday through Friday, except Federal holidays. The telephone number is 202-366-9329.

You may submit your comments and material online or by fax, mail, or hand delivery, but please use only one of these means.

FMCSA recommends that you include your name and a mailing address, an email address, or a phone number in the body of your document so that FMCSA can contact you if there are questions regarding your submission.

To submit your comment online, go to http://www.regulations.gov and in the search box insert the docket number “FMCSA-2013-0392” and click the search button. When the new screen appears, click on the blue “Comment Now!” button on the right hand side of the page. On the new page, enter information required including the specific section of this document to which each comment applies, and provide a reason for each suggestion or recommendation. If you submit your comments by mail or hand delivery, submit them in an unbound format, no larger than 8½ by 11 inches, suitable for copying and electronic filing. If you submit comments by mail and would like to know that they reached the facility, please enclose a stamped, self-addressed postcard or envelope.

We will consider all comments and material received during the comment period and may change the proposed enhancements based on your comments. FMCSA may issue final enhancements at any time after the close of the comment period.

Viewing Comments and Documents

To view comments, as well as any documents mentioned in this preamble, To submit your comment online, go to http://www.regulations.gov and in the search box insert the docket number “FMCSA-2013-0392” and click “Search.” Next, click “Open Docket Folder” and you will find all documents and comments related to the proposed rulemaking.

Note that all comments received, including any personal information provided, will be posted without change to http://www.regulations.gov. Please see the “Privacy Act” heading below.

Docket: For access to the docket to read background documents or comments received, go to http://www.regulations.gov at any time or to Room W12-140 on the ground floor of the DOT Headquarters Building at 1200 New Jersey Avenue SE., Washington, DC 20590, between 9 a.m. and 5 p.m., e.t., Monday through Friday, except Federal holidays.

Privacy Act: Anyone is able to search the electronic form of all comments received into any of our dockets by the name of the individual submitting the comment (or signing the comment, if submitted on behalf of an association, business, labor union, etc.). You may review DOT's Privacy Act System of Records Notice for the DOT Federal Docket Management System published in the Federal Register on January 17, 2008 [73 FR 3316].

Public Participation: The http://www.regulations.gov Web site is generally available 24 hours each day, 365 days each year. You can get electronic submission and retrieval help and guidelines under the “help” section of the http://www.regulations.gov Web site. Comments received after the comment closing date will be included in the docket, and will be considered to the extent practicable.

FOR FURTHER INFORMATION CONTACT: Ms. Courtney Stevenson, Federal Motor Carrier Safety Administration, Compliance Division, 1200 New Jersey Avenue SE., Washington, DC 20590, Telephone 202-366-5241, E-Mail: courtney.stevenson@dot.gov.

SUPPLEMENTARY INFORMATION:

The SMS

On April 9, 2010, FMCSA announced the implementation of the SMS in the Federal Register (75 FR 18256) (Docket No. FMCSA-2004-18898). The Agency announced it would use the SMS to identify high-risk motor carriers for on-site investigations consistent with Section 4138 of the Safe, Accountable, Flexible, Efficient, Transportation Equity Act: A Legacy for Users, Public Law 109-59, 119 Stat. 1144, 1745 (Aug. 10, 2005) (set out as a note to 49 U.S.C. 31144). The SMS has been operational since December 2010. The SMS is also used to identify and prioritize motor carriers for other interventions, including automated warning letters, and serves as a principal factor in roadside inspection selection software designed to recommend motor carriers with known performance and compliance problems for inspections. Effectiveness testing of the SMS has shown that motor carriers that are categorized as high-risk by the SMS have future crash rates more than double that of all active motor carriers.

Just as the Motor Carrier Safety Status Measurement System (SafeStat) previously provided the public with access to SafeStat data online, the SMS provides the motor carrier industry and other safety stakeholders with more comprehensive, informative and regularly updated safety performance data. As FMCSA explained in its April 9, 2010 Federal Register notice, the SMS provides motor carriers and other safety stakeholders with regularly updated safety performance assessments through the public Web site at http://ai.fmcsa.dot.gov/SMS.

From the start of CSA, FMCSA expected to modify SMS as new data and additional analyses became available. As stated in its March 27, 2012 Federal Register notice (77 FR 18298) (Docket No. FMCSA-2012-0074), FMCSA plans to apply a systematic approach to making improvements to SMS, prioritizing and releasing packages of improvements as needed. Last year, FMCSA made 11 improvements to SMS to better identify high-risk and non-compliant motor carriers for interventions. Those SMS enhancements were implemented in December 2012 and included a new Hazardous Materials (HM) Compliance Behavior Analysis and Safety Improvement Category (BASIC). A complete description of those enhancements, including the rationale behind them, was published in the Federal Register on August 28, 2012 (77 FR 52110) (Docket No. FMCSA-2004-18898). The enhancements are also outlined in the SMS Changes Foundational Document on the Agency's Web site at http://csa.fmcsa.dot.gov/Documents/SMS_FoundationalDoc_Final.pdf. The current proposed enhancements to the display of information on the SMS are an extension of the Agency's effort to provide more comprehensive, informative, and regularly updated safety and compliance performance data through a systematic approach, as announced in the April 9, 2010 and March 27, 2012 Federal Register notices.

The August 28, 2012, Federal Register notice announced that the Agency would study and refine the HM Compliance BASIC before making it a publicly available BASIC in December 2013. The Agency continues to examine the HM Compliance BASIC but does not plan to make it publicly available with these proposed enhancements to the SMS public Web site. The current effort is focused primarily on the display of the data that is currently available in the SMS.

Enhancing the Public Display of SMS Information

In Fiscal Year 2012, the SMS public Web site hosted nearly 48 million user sessions, up from over 30 million user sessions in Fiscal Year 2011 and 4 million user sessions under the prior public SafeStat system in 2010. Many more users now access the SMS; this presents FMCSA with opportunities to ensure that the users understand the information provided.

FMCSA received feedback on SMS's public display from a variety of stakeholders including the Agency's Motor Carrier Safety Advisory Committee (MCSAC). The MCSAC was asked to appoint a subcommittee to help identify ways in which FMCSA could leverage the SMS Web site to best promote safety; suggestions as to how FMCSA could more clearly convey the intent of the SMS as FMCSA's workload prioritization tool; aspects that work well with respect to the current SMS Web site's design and operation; and what changes would make the information on the SMS more easily understood and accessible to a variety of safety stakeholders.

List of Proposed Enhancements to the SMS Display

The proposed Web site enhancements seek to accomplish three key objectives:

1. Provide easier, more intuitive navigation and user-friendly features and descriptions to clarify the SMS's role as FMCSA's prioritization tool for interventions;

2. Consolidate FMCSA safety information so users do not have to go to multiple sites; and

3. Provide improved access to detailed information and new performance monitoring tools.

The proposed Web site enhancements are summarized below:

• Displaying a summary BASIC status to better clarify if a motor carrier's performance in the individual BASICs causes it to be prioritized for an intervention. Detailed data such as the motor carrier's percentile ranking in each BASIC has been moved to the individual drill down pages for each BASIC.

• A new “Take a Tour” feature to highlight enhancements to the SMS display and show visitors how to locate and use the site.

• Allowing the Web site user to download the data for all of the carriers in the same safety event group used to rank a carrier's BASIC percentile. The SMS determines a BASIC percentile for each motor carrier within a BASIC based on how the individual carrier's BASIC measure ranks relative to other carriers with a similar number of safety events (i.e., inspections, violations, or crashes).

• Highlighting a motor carrier's individual performance measure in each BASIC to more clearly identify its performance trends over time. The measure is based on the results of the carrier's roadside inspections or crashes, and is not relative to other carriers in its safety event group.

• Reordering the display of the BASICs based on their association to crash rates, with the BASICs with the strongest associations at the left.

• Displaying any motor carrier safety rating from a compliance review issued in accordance with 49 CFR part 385. Previously, users had to go to FMCSA's Safety and Fitness Electronic Records System (SAFER) Web site.

• Displaying current insurance and authority status. Previously, users had to access FMCSA's Licensing and Insurance Online Web site.

• Providing a motor carrier's enforcement case history, including the date the case was closed, the applicable violations, and the associated fines.

• Enhancing the display of safety performance over time through a variety of displays and graphs users can customize.

• Displaying the total number of inspections as well as a breakdown of the number of inspections with violations used in the SMS in each carrier's detail.

• Clarifying terminology in the SMS, such as the definitions of the terms “0%” and “<3 inspections with violations,” in a new glossary called “SMS Display Key Terms.”

On November 4, 2013, FMCSA began a preview of the proposed Web site enhancements at https://csa.fmcsa.dot.gov/SMSPreview/. Motor carriers are able to log in with their Portal account or PINs to view their own data in the proposed re-designed format. The general public will be able to access simulated carrier data in order to view the proposed enhancements. During the preview period, FMCSA will hold several public webinars to provide stakeholders with detailed information about the SMS display.

The Agency is not proposing changes to the SMS methodology at this time.

Public Webinars

FMCSA plans to host several educational webinars for the public addressing the proposed enhancements to the SMS public Web site. These webinars will take place in November 2013. The scheduled dates and times are below.

1. Monday, November 18, 2013, 12:00 to 1:30 p.m. eastern time.

2. Thursday, November 21, 2013, 1:30 to 3:00 p.m. eastern time.

3. Friday, November 22, 2013, 11:30 a.m. to 1:00 p.m. eastern time.

All the webinars will have closed captioning available, and all stakeholders are encouraged to participate. Interested parties can register for the webinars through the FMCSA's National Training Center at https://www.fmcsa.dot.gov/ntc/webinarinfo/CSA_Improvements_Webinar-FMCSA.pdf.

Request for Comments

FMCSA requests comments on the above improvements to the SMS public Web site. Commenters are requested to provide supporting data wherever appropriate.

Issued On: October 31, 2013.
Anne S. Ferro,
Administrator.

[FR Doc. 2013-26543 Filed 11-1-13; 11:15 am]

BILLING CODE 4910-EX-P